DEPARTMENT OF LABOR

Employment and Training Administration

[TA-W-64,591]

Gensym Corporation, A Subsidiary of Versata Enterprises, Inc., Burlington, MA; Notice of Affirmative Determination Regarding Application for Reconsideration

By application dated February 20, 2009, the Division of Career Services, Trade Program Manager, Massachusetts, requested administrative reconsideration of the negative determination regarding workers' eligibility to apply for Trade Adjustment Assistance (TAA) and Alternative Trade Adjustment Assistance (ATAA) applicable to workers and former workers of the subject firm. The determination was issued on February 4, 2009 and will soon be published in the Federal Register.

The initial investigation resulted in a negative determination based on the finding that the worker group engaged in IT sales, consulting and support services, does not produce an article within the meaning of Section 222(a)(2) of the Act.

In the request for reconsideration, the petitioner provided additional information regarding activities of the workers at the subject facility. The petitioners stated that workers of the subject firm produced software which was sold to customers.

The Department has carefully reviewed the request for reconsideration and determined that the Department will conduct further investigation to determine whether the workers of the subject firm were engaged in production of articles and whether they meet the eligibility requirements of the Trade Act of 1974.

Conclusion

After careful review of the application, I conclude that the claim is of sufficient weight to justify reconsideration of the U.S. Department of Labor's prior decision. The application is, therefore, granted.

Signed at Washington, DC, this 2nd day of March 2009.
Elliott S. Kushner,
Certifying Officer, Division of Trade Adjustment Assistance.

[FR Doc. E9-5181 Filed 3-10-09; 8:45 am]

BILLING CODE 4510-FN-P